DEPARTMENT OF TRANSPORTATION

Federal Aviation Administration

Agency Information Collection Activities: Requests for Comments; Clearance of Renewed Approval of Information Collection: Financial Responsibility Requirements for Licensed Reentry Activities

AGENCY: Federal Aviation Administration (FAA), DOT.

ACTION: Notice and request for comments.

SUMMARY: In accordance with the Paperwork Reduction Act of 1995, FAA invites public comments about our intention to request the Office of Management and Budget (OMB) approval to renew an information collection. The information collected supports FAA in determining the amount of required liability insurance for a reentry operator after examining the risk associated with a reentry vehicle, its operational capabilities, and its designated reentry site.

DATES: Written comments should be submitted by January 23, 2012.

FOR FURTHER INFORMATION CONTACT: Kathy DePaepe at (405) 954-9362, or by email at: Kathy.A.DePaepe@faa.gov.

SUPPLEMENTARY INFORMATION: OMB Control Number: 2120-0649.

Title: Financial Responsibility Requirements for Licensed Reentry Activities.

Form Numbers: There are no FAA forms associated with this collection.

Type of Review: Renewal of an information collection.

Background: This collection is applicable upon concurrence of requests for conducting commercial reentry operations as prescribed in 14 CFR, Parts 400, et al., Commercial Space Transportation Reusable Launch Vehicle and Reentry Licensing Regulation. A commercial space launch services provider must complete the Reusable Launch Vehicle and Reentry Licensing Regulation in order to gain authorization for conducting reentry activities. The information collection requirement enables FAA/AST to determine the amount of required liability insurance for a reentry operator after examining the risks associated with a reentry vehicle, its operational capabilities, and its designated reentry site.

Respondents: Approximately 1 reentry operator.

Frequency: Information is collected on occasion.

Estimated Average Burden per Response: 300 hours.

Estimated Total Annual Burden: 300 hours.

ADDRESSES: Send comments to the FAA at the following address: Ms. Kathy DePaepe, Room 126B, Federal Aviation Administration, AES-200, 6500 S. MacArthur Blvd., Oklahoma City, OK 73169.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on November 14, 2011.
Albert R. Spence,
FAA Assistant Information Collection Clearance Officer, IT Enterprises Business Services Division, AES-200.

[FR Doc. 2011-30091 Filed 11-21-11; 8:45 am]

BILLING CODE 4910-13-P